MILLENNIUM CHALLENGE CORPORATION

[MCC FR 10-03]

Notice of the June 16, 2010 Millennium Challenge Corporation Board of Directors Meeting; Sunshine Act Meeting

AGENCY: Millennium Challenge Corporation.

TIME AND DATE: 10 a.m. to 12 p.m., Wednesday, June 16, 2010.

PLACE: Department of State, 2201 C Street, NW., Washington, DC 20520.

FOR FURTHER INFORMATION CONTACT: Information on the meeting may be obtained from Melvin Williams, Vice President, General Counsel and Corporate Secretary via e-mail at Corporatesecretary@mcc.gov or by telephone at (202) 521-3600.

STATUS: Meeting will be closed to the public.

MATTERS TO BE CONSIDERED: The Board of Directors (the “Board”) of the Millennium Challenge Corporation (“MCC”) will hold a meeting to discuss an update on the Philippines Compact; the status of compact implementation; update on the compact pipeline; the Threshold Program Review; and certain administrative matters. The agenda items are expected to involve the consideration of classified information and the meeting will be closed to the public.

Dated: May 27, 2010.
Henry C. Pitney,
Acting Vice President, General Counsel and Corporate Secretary, Millennium Challenge Corporation.

[FR Doc. 2010-13248 Filed 5-27-10; 4:15 pm]

BILLING CODE 9211-03-P